DEPARTMENT OF COMMERCE

International Trade Administration

University of Minnesota et al.; Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before July 21, 2025. Address written comments to Statutory Import Programs Staff, Room 40005, U.S. Department of Commerce, Washington, DC 20230. Please also email a copy of those comments to Eva.Kim@trade.gov.

Docket Number: 25-016. Applicant: University of Minnesota, 115 Union St. SE, PAN 241, Minneapolis, MN 55455. Instrument: High Temperature Laser Crystal Growth Furnace. Manufacturer: Scientific Instruments GmbH, Germany. Intended Use: The instrument is intended to synthesize single crystals of transition-metal-based oxide to discover new high high-temperature superconducting materials. Justification for Duty-Free Entry: According to the applicant, there are no instruments of the same general category manufactured in the United States. Application accepted by Commissioner of Customs: April 25, 2025.

Docket Number: 25-017. Applicant: California Institute of Technology, 1200 E. California Blvd., M/C 18-34, Pasadena, CA 91125. Instrument: Nd: Yag Laser System. Manufacturer: Laser Zentrum Hannover, Germany. Intended Use: The instrument is intended to detect gravitational waves. Justification for Duty-Free Entry: According to the applicant, there are no instruments of the same general category manufactured in the United States. Application accepted by Commissioner of Customs: July 30, 2007.

Docket Number: 25-018. Applicant: Utah State University, 4415 Old Main Hill, Logan, UT 84322. Instrument: SLM-200 Spatial Light Modulator. Manufacturer: Santec USA Corporation, Japan. Intended Use: The instrument is intended to generate holography and vortex optical beams to provide hands-on training on holographic optics, diffraction options, and Fourier optics. Justification for Duty-Free Entry: According to the applicant, there are no instruments of the same general category manufactured in the United States. Application accepted by Commissioner of Customs: April 30, 2025.

Dated: June 27, 2025.
Tyler J. O'Daniel,
Acting Director, Subsidies Enforcement, Enforcement and Compliance.

[FR Doc. 2025-12267 Filed 6-30-25; 8:45 am]

BILLING CODE 3510-DS-P